INTERNATIONAL TRADE COMMISSION

[Investigation No. 337-TA-761]

Certain Set-Top Boxes, and Hardware and Software Components Thereof; Determination Not To Review Initial Determination Terminating Investigation

AGENCY: U.S. International Trade Commission.

ACTION: Notice.

SUMMARY: Notice is hereby given that the U.S. International Trade Commission has determined not to review the presiding administrative law judge's (“ALJ”) initial determination (“ID”) (Order No. 43) granting a joint motion by Complainant and Respondent to terminate the investigation in its entirety based upon the execution of a settlement agreement.

FOR FURTHER INFORMATION CONTACT: Panyin A. Hughes, Esq., Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted Inv. No. 337-TA-761 on March 2, 2011, based on a complaint filed by Microsoft Corporation of Redmond, Washington (“Microsoft”). 76 FR 11512 (Mar. 2, 2011). The complaint alleged violations of section 337 of the Tariff Act of 1930 (19 U.S.C. 1337) in the importation into the United States, the sale for importation, and the sale within the United States after importation of certain set-top boxes, and hardware and software components thereof by reason of infringement of various claims of United States Patent Nos. 5,585,838; 5,731,844; 6,028,604; and 5,758,258. The notice of investigation named TiVo Inc. of Alviso, California (“TiVo”) as respondent.

On March 22, 2012, Microsoft and TiVo filed a joint motion to terminate the investigation in its entirety based upon the execution of a settlement agreement. On March 26, 2012, the Commission Investigative Attorney filed a response in support of the motion.

The ALJ issued the subject ID (Order No. 43) granting the motion and terminating the investigation on March 26, 2012. None of the parties petitioned for review of the ID.

The Commission has determined not to review the ID, and thereby renders moot the ALJ's initial determination granting Microsoft's motion for summary determination that it has satisfied the economic prong of the domestic industry. See Order No. 42 (March 15, 2012). Accordingly, this investigation is terminated.

The authority for the Commission's determination is contained in section 337 of the Tariff Act of 1930, as amended (19 U.S.C. 1337), and in section 210.42 of the Commission's Rules of Practice and Procedure (19 CFR 210.42).

By order of the Commission.
Issued: April 10, 2012.
James R. Holbein,
Secretary to the Commission.

[FR Doc. 2012-8990 Filed 4-13-12; 8:45 am]

BILLING CODE 7020-02-P